DEPARTMENT OF TRANSPORTATION

Federal Aviation Administration

14 CFR Part 39

[Docket No. 99-SW-78-AD; Amendment 39-12560; AD 2001-25-07]

RIN 2120-AA64

Airworthiness Directives; Eurocopter France Model AS 332C, L, L1, and L2 Helicopters

AGENCY: Federal Aviation Administration, DOT.

ACTION: Final rule.

SUMMARY: This amendment supersedes an existing airworthiness directive (AD) that applies to Eurocopter France Model AS 332C, L, L1, and L2 helicopters. That AD requires conducting a filter clogging warning test, and, if necessary, replacing a jammed valve with an airworthy valve. This amendment requires the same actions as the existing AD but references a revision to the previously referenced service information; adds fuel filter part numbers to the applicability; and clarifies other provisions throughout the AD. This amendment is prompted by jammed fuel filter by-pass valves. The actions specified by this AD are intended to prevent power loss due to fuel starvation, engine flameouts, and a subsequent forced landing.

DATES: Effective January 25, 2002.

The incorporation by reference of certain publications listed in the regulations is approved by the Director of the Federal Register as of January 25, 2002.

ADDRESSES: The service information referenced in this AD may be obtained from American Eurocopter Corporation, 2701 Forum Drive, Grand Prairie, Texas 75053-4005, telephone (972) 641-3460, fax (972) 641-3527. This information may be examined at the FAA, Office of the Regional Counsel, Southwest Region, 2601 Meacham Blvd., Room 663, Fort Worth, Texas; or at the Office of the Federal Register, 800 North Capitol Street, NW., suite 700, Washington, DC.

FOR FURTHER INFORMATION CONTACT: Paul Madej, Aviation Safety Engineer, FAA, Rotorcraft Directorate, Rotorcraft Standards Staff, Fort Worth, Texas 76193-0110, telephone (817) 222-5125, fax (817) 222-5961.

SUPPLEMENTARY INFORMATION: A proposal to amend 14 CFR part 39 by superseding AD 99-13-02, Amendment 39-11195 (64 FR 32399, June 17, 1999), which applies to Eurocopter France Model AS 332C, L, L1, and L2 helicopters, was published in the Federal Register on April 14, 2000 (65 FR 20104). That action proposed to require the same actions as AD 99-13-02 but would have added another fuel filter part number to the applicability.

After issuing that notice of proposed rulemaking (NPRM), Eurocopter France issued Alert Service Bulletin No. 01.00.56, dated January 16, 2001 (ASB), which changed the compliance and operational procedures and added a part number to the affected fuel filters. The Direction Generale De L'Aviation Civile, which is the airworthiness authority for France, classified that ASB as mandatory and issued AD Nos. 1998-318-071(A)R6 and 1998-319-012(A)R6, both dated April 18, 2001, to ensure the continued airworthiness of these helicopters in France. The FAA determined that the actions and all the fuel filter part numbers specified in the SB should be included in the proposal. Because the changes expanded the scope of the originally proposed rule, the FAA determined that it was necessary to reopen the comment period to provide additional opportunity for public comment and issued a supplemental NPRM on August 17, 2001 (66 FR 45651, August 29, 2001).

Interested persons have been afforded an opportunity to participate in the making of this amendment. No comments were received on the proposal or the FAA's determination of the cost to the public. The FAA has determined that air safety and the public interest require the adoption of the rule as proposed except for a minor editorial change in Note 2 of the AD. The word “bulletin” is inserted to reference the applicable service information. This change neither increases the economic burden on any operator nor increases the scope of the AD.

The FAA estimates that one helicopter of U.S. registry will be affected by this AD, that it will take approximately 3 work hours per helicopter to accomplish the required actions, and that the average labor rate is $60 per work hour. Based on these figures, the total cost impact of the AD on U.S. operators is estimated to be $180, assuming no valve needs to be replaced.

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by removing Amendment 39-11195 (64 FR 32399, June 17, 1999), and by adding a new airworthiness directive (AD), Amendment 39-12560, to read as follows:

2001-25-07 Eurocopter France: Amendment 39-12560. Docket No. 99-SW-78-AD. Supersedes AD 99-13-02, Amendment 39-11195, Docket No. 99-SW-17-AD.

Applicability: Eurocopter France Model AS 332C, L, L1, and L2 helicopters, with any of the following part-numbered fuel filters installed, certificated in any category:

Vendor part no. | Eurocopter France part no.
-4020P25 | (704A44620031)
-4020P25-1 | (704A44620034)
-4020P25-2 | (704A44620035)
-4020P25-3 | (704A44620036)
-4020P25-4 | (704A44620044)
-4020P25-11 | (704A44620037)

Note 1: This AD applies to each helicopter identified in the preceding applicability provision, regardless of whether it has been otherwise modified, altered, or repaired in the area subject to the requirements of this AD. For helicopters that have been modified, altered, or repaired so that the performance of the requirements of this AD is affected, the owner/operator must request approval for an alternative method of compliance in accordance with paragraph (d) of this AD. The request should include an assessment of the effect of the modification, alteration, or repair on the unsafe condition addressed by this AD; and if the unsafe condition has not been eliminated, the request should include specific proposed actions to address it.

Note 2: This AD does not apply to aircraft modified per Eurocopter MOD 0726087 or in compliance with Eurocopter AS 332 Service Bulletin No. 28.00.38, dated March 15, 2001.

Compliance: Required as indicated, unless accomplished previously.

To prevent power loss due to fuel starvation, an engine flameout, and a subsequent forced landing, accomplish the following:

(a) Within 25 hours time-in-service (TIS), after any subsequent flight during which either fuel filter pre-clogging caution light illuminates, and after each installation of a new fuel filter assembly or filter element:

(1) Verify that the fuel filter by-pass valve (valve) correctly closes for each engine fuel filter in accordance with the Accomplishment Instructions, paragraph 2.B.1. of Eurocopter France Alert Service Bulletin Number 01.00.56, Revision 1, dated March 15, 2001 (ASB).

(2) Conduct a filter pre-clogging warning test in accordance with paragraph 2.B.2. of the ASB.

(3) If a blocked fuel filter element (open or closed) is detected during the pre-clogging warning test, clean the filter assembly in accordance with paragraph 2.B.4. of the ASB. After cleaning the filter assembly, repeat the requirements of paragraph (a)(2) of this AD.

(4) When the pre-clogging warning test result is satisfactory, repeat the requirements of paragraph (a)(1) of this AD.

(b) Within 25 hours TIS, insert a copy of this AD into the Rotorcraft Flight Manual (RFM), or make the following pen and ink addition to the RFM Emergency Procedure for fuel filter clogged caution light illumination: “If both fuel filter clogged caution lights illuminate, land as soon as possible.”

(c) If both filter clogged caution lights illuminate in flight, after landing, either:

(1) Accomplish the requirements of paragraphs (a)(1) through (a)(4) of this AD before further flight, or,

(2) Replace both fuel filter elements with airworthy fuel filter elements and conduct a one-time direct flight to a location where the requirements of paragraphs (a)(1) through (a)(4) of this AD can be accomplished before further flight.

(d) An alternative method of compliance or adjustment of the compliance time that provides an acceptable level of safety may be used if approved by the Manager, Regulations Group, Rotorcraft Directorate, FAA. Operators shall submit their requests through an FAA Principal Maintenance Inspector, who may concur or comment and then send it to the Manager, Regulations Group.

Note 3: Information concerning the existence of approved alternative methods of compliance with this AD, if any, may be obtained from the Manager, Regulations Group.

(e) Special flight permits will not be issued.

(f) The inspections, tests, and cleaning shall be done in accordance with the Accomplishment Instructions, paragraphs 2.B.1., 2.B.2., and 2.B.4., of Eurocopter France Alert Service Bulletin Number 01.00.56 Revision 1, dated March 15, 2001. This incorporation by reference was approved by the Director of the Federal Register in accordance with 5 U.S.C. 552(a) and 1 CFR part 51. Copies may be obtained from American Eurocopter Corporation, 2701 Forum Drive, Grand Prairie, Texas 75053-4005, telephone (972) 641-3460, fax (972) 641-3527. Copies may be inspected at the FAA, Office of the Regional Counsel, Southwest Region, 2601 Meacham Blvd., Room 663, Fort Worth, Texas; or at the Office of the Federal Register, 800 North Capitol Street, NW., suite 700, Washington, DC.

(g) This amendment becomes effective on January 25, 2002.

Note 4: The subject of this AD is addressed in Direction Generale De L'Aviation Civile (France) AD's 1998-318-071(A)R6 and 1998-319-012(A)R6, both dated April 18, 2001.

Issued in Fort Worth, Texas, on December 11, 2001.
David A. Downey,
Manager, Rotorcraft Directorate, Aircraft Certification Service.

[FR Doc. 01-31040 Filed 12-20-01; 8:45 am]

BILLING CODE 4910-13-P